FEDERAL RESERVE SYSTEM

Privacy Act of 1974; System of Records

AGENCY: Board of Governors of the Federal Reserve System.

ACTION: Notice of a modified system of records.

SUMMARY: Pursuant to the provisions of the Privacy Act of 1974, notice is given that the Board of Governors of the Federal Reserve System (Board) proposes to modify an existing system of records entitled BGFRS-25, “FRB—Multi-Rater Feedback Records.” The modified system of records, which will now be called “FRB—360 Assessment Records,” includes 360 Assessment questionnaires completed by the employee being evaluated and his or her evaluators, analyses of the questionnaires, and associated feedback reports.

DATES: Comments must be received on or before January 9, 2025. This modified system of records will become effective January 9, 2025, without further notice, unless comments dictate otherwise.

The Office of Management and Budget (OMB), which has oversight responsibility under the Privacy Act, requires a 30-day period prior to publication in the Federal Register in which to review the system and to provide any comments to the agency. The public is then given a 30-day period in which to comment, in accordance with 5 U.S.C. 552a(e)(4) and (11).

ADDRESSES: You may submit comments, identified by BGFRS-25 “FRB—360 Assessment Records,” by any of the following methods:

• Agency Website: https://www.federalreserve.gov. Follow the instructions for submitting comments at https://www.federalreserve.gov/apps/foia/proposedregs.aspx.

• Email: regs.comments@federalreserve.gov. Include SORN name and number in the subject line of the message.

• Fax: (202) 452-3819 or (202) 452-3102.

• Mail: Ann E. Misback, Secretary, Board of Governors of the Federal Reserve System, 20th Street and Constitution Avenue NW, Washington, DC 20551.

In general, all public comments will be made available on the Board's website at https://www.federalreserve.gov/generalinfo/foia/ProposedRegs.cfm as submitted, and will not be modified to remove confidential, contact or any identifiable information. Public comments may also be viewed electronically or in paper in Room M-4365A, 2001 C St. NW, Washington, DC 20551, between 9:00 a.m. and 5:00 p.m. during federal business weekdays.

FOR FURTHER INFORMATION CONTACT: Alye Foster, Associate General Counsel, (202) 452-5289, or alye.s.foster@frb.gov; Legal Division, Board of Governors of the Federal Reserve System, 20th Street and Constitution Avenue NW, Washington, DC 20551. For users of telephone systems via text telephone (TTY) or any TTY-based Telecommunications Relay Services, please call 711 from any telephone anywhere in the United States.

SUPPLEMENTARY INFORMATION: The Board proposes to modify BGFRS-25 to reflect a change in the system name, changes to the contractors selected to conduct 360 Assessments, and to update the record schedule. The Board is modifying this system of records to reflect a change in the system name from BGFRS-25, “FRB—Multi-Rater Feedback Records” to “FRB—360 Assessment Records,” to better reflect the records contained in the system. The Board has also changed the contractors the Board has selected to conduct 360 Assessments and is updating the system accordingly. In addition, the Board is updating the record retention schedule that applies to the records. Rather than retaining the records for four years, the Board will now retain records until the record is superseded, one year after the evaluated employee separates from employment, or three years—whichever occurs first. To reflect these changes, the Board is updating the system name, system location, the practices for retrieval, and the practices for retention and disposal. In addition, the Board is also updating the system manager information, adding a link to the Board's general routine uses and updating the administrative, technical, and physical safeguards. The Board is not amending or establishing any new routine uses.

The Board is also making technical changes to BGFRS-25 consistent with the template laid out in OMB Circular No. A-108. Accordingly, the Board has made technical corrections and non-substantive language revisions to the following categories: “Policies and Practices for Storage of Records,” “Policies and Practices for Retrieval of Records,” “Policies and Practices for Retention and Disposal of Records,” “Administrative, Technical and Physical Safeguards,” “Record Access Procedures,” “Contesting Record Procedures,” and “Notification Procedures.” The Board has also created the following new fields: “Security Classification” and “History.”

SYSTEM NAME AND NUMBER:

BGFRS-25 “FRB—360 Assessment Records.”

SECURITY CLASSIFICATION:

Unclassified.

SYSTEM LOCATION:

Board of Governors of the Federal Reserve System, 20th Street and Constitution Avenue NW, Washington, DC 20551. The completed 360 Assessment questionnaires and the resulting feedback reports are collected and maintained, on behalf of the Board, by contractors. Based on the information provided by the completed questionnaires, the contractors provide an individual feedback report to the individual under evaluation. With the exception of the feedback report provided to the individual under evaluation, no individually identifiable information is maintained on the Board's premises. The names and addresses of the contractors engaged to design, facilitate, and report the results of the 360 Assessment process at the Board within the past three years are as follows:

BlessingWhite, 11000 Broken Land Parkway, Suite 200, Columbia, MD 20144;

Center for Creative Leadership, 1 Leadership Place, Greensboro, NC 27410;

ChangeFusion, LLC, 6402 Arlington Blvd., Falls Church, VA 22042;

Communications Training Analysis Corp., 3120 Fairview Park Drive, Suite 600, Falls Church, VA 22041;

Information PathWaves, Inc., 18 Torrance Court, Kensington, MD 20895;

Innolect, Inc., 2764 Pleasant Road #11503, Fort Mill, SC 29708;

IVY Planning Group, LLC, 6701 Democracy Blvd., Bethesda, MD 20817;

Korn Ferry, 12012 Sunset Hills Road, Reston, VA 20190;

Otto Kroeger Associates, 3605 Chain Bridge Road, Fairfax, VA 22030;

Uniplus Consultants, Inc., 8140 Ashton Ave., Suite 210, Manassas, VA 20109;

WiseWays Consulting, Inc., 2207 Greywing Street, Woodbridge, VA 22191.

SYSTEM MANAGER(S):

Ethel Bulluck, Learning and Development Manager, Human Resources, Management Division, Board of Governors of the Federal Reserve System, 20th Street and Constitution Avenue NW, Washington, DC 20551, (202) 452-3749, or ethel.g.bulluck@frb.gov.

AUTHORITY FOR MAINTENANCE OF THE SYSTEM:

Sections 10 and 11 of the Federal Reserve Act (12 U.S.C. 244 and 248).

PURPOSE(S) OF THE SYSTEM:

These records are collected and maintained to assist the Board in administering its personnel functions and improving the management skills of its employees.

CATEGORIES OF INDIVIDUALS COVERED BY THE SYSTEM:

Past and present employees of the Board who have participated in the 360 Assessment program.

CATEGORIES OF RECORDS IN THE SYSTEM:

This system contains 360 Assessment questionnaires completed by the individual under evaluation and his or her evaluators, analyses of the questionnaires, and feedback reports compiled by the contractor based upon the analyses.

RECORD SOURCE CATEGORIES:

Information is provided by the individual being evaluated and his or her evaluators.

ROUTINE USES OF RECORDS MAINTAINED IN THE SYSTEM, INCLUDING CATEGORIES OF USERS AND PURPOSES OF SUCH USES:

General routine uses A, C, D, F, G, H, I, and J apply to this system. These general routine uses are located at https://www.federalreserve.gov/files/SORN-page-general-routine-uses-of-board-systems-of-records.pdf and are published in the Federal Register at 83 FR 43872 at 43873-74 (August 28, 2018). Records may also be used to disclose information to an arbitrator to resolve disputes under a negotiated grievance procedure or to officials of labor organizations recognized under applicable law, regulation, or policy when relevant and necessary to their duties of exclusive representation concerning personnel policies, practices, and matters affecting working conditions.

POLICIES AND PRACTICES FOR STORAGE OF RECORDS:

Paper records in this system are stored in locked file cabinets with access limited to staff with a need to know. Electronic records are stored on a secure server with access limited to staff with a need to know.

POLICIES AND PRACTICES FOR RETRIEVAL OF RECORDS:

Records can be retrieved by one or more personal identifiers depending on the contractor engaged by the Board for a particular 360 Assessment. These identifiers may include the name, email address, role, and demographic information (age, gender, etc.) of the individuals being evaluated and of the individuals performing the evaluations.

POLICIES AND PRACTICES FOR RETENTION AND DISPOSAL OF RECORDS:

All records are retained either until the record is superseded, one year after the individual under evaluation's separation from employment, or three years—whichever occurs first. Longer retention is authorized if required for business use.

ADMINISTRATIVE, TECHNICAL, AND PHYSICAL SAFEGUARDS:

Paper records are secured by lock and key and electronic files are stored on secure servers. The system has the ability to track individual user actions within the system. The audit and accountability controls are based on National Institute of Standards and Technology (NIST) and Board standards, which, in turn, are based on applicable laws and regulations. The controls assist in detecting security violations and performance or other issues in the system. Access to the system is restricted to authorized users within the Board who require access for official business purposes. Users are classified into different roles and common access and usage rights are established for each role. User roles are used to delineate between the different types of access requirements such that users are restricted to data that is required in the performance of their duties. Periodic assessments and reviews are conducted to determine whether users still require access, have the appropriate role, and whether there have been any unauthorized changes.

RECORD ACCESS PROCEDURES:

The Privacy Act allows individuals the right to access records maintained about them in a Board system of records. Your request for access must: (1) contain a statement that the request is made pursuant to the Privacy Act of 1974; (2) provide either the name of the Board system of records expected to contain the record requested or a concise description of the system of records; (3) provide the information necessary to verify your identity; and (4) provide any other information that may assist in the rapid identification of the record you seek.

Current or former Board employees may make a request for access by contacting the Board office that maintains the record. The Board handles all Privacy Act requests as both a Privacy Act request and as a Freedom of Information Act request. The Board does not charge fees to a requestor seeking to access or amend his/her Privacy Act records.

You may submit your Privacy Act request to the—Secretary of the Board, Board of Governors of the Federal Reserve System, 20th Street and Constitution Avenue NW, Washington, DC 20551.

You may also submit your Privacy Act request electronically by filling out the required information at: https://foia.federalreserve.gov/.

CONTESTING RECORD PROCEDURES:

The Privacy Act allows individuals to seek amendment of information that is erroneous, irrelevant, untimely, or incomplete and is maintained in a system of records that pertains to them. To request an amendment to your record, you should clearly mark the request as a “Privacy Act Amendment Request.” You have the burden of proof for demonstrating the appropriateness of the requested amendment and you must provide relevant and convincing evidence in support of your request.

Your request for amendment must: (1) provide the name of the specific Board system of records containing the record you seek to amend; (2) identify the specific portion of the record you seek to amend; (3) describe the nature of and reasons for each requested amendment; (4) explain why you believe the record is not accurate, relevant, timely, or complete; and (5) unless you have already done so in a related Privacy Act request for access or amendment, provide the necessary information to verify your identity.

NOTIFICATION PROCEDURES:

Same as “Access procedures” above. You may also follow this procedure in order to request an accounting of previous disclosures of records pertaining to you as provided for by 5 U.S.C. 552a(c).

EXEMPTIONS PROMULGATED FOR THE SYSTEM:

Certain portions of this system of records may be exempted from 5 U.S.C. 552a(c)(3), (d), (e)(1), (e)(4)(G), (H), and (I), and (f) of the Privacy Act pursuant to 5 U.S.C. 552a(k)(5).

HISTORY:

This SORN was previously published in the Federal Register at 73 FR 24984 at 25003-04 (May 6, 2008). The SORN was also amended to incorporate two new routine uses required by OMB at 83 FR 43872 (August 28, 2018).

Board of Governors of the Federal Reserve System.

Ann E. Misback,
Secretary of the Board.

[FR Doc. 2024-28926 Filed 12-9-24; 8:45 am]

BILLING CODE 6210-01-P